SMALL BUSINESS ADMINISTRATION

13 CFR Part 125

RIN 3245-AF12

Small Business Government Contracting Programs; Subcontracting; Correction

AGENCY: Small Business Administration.

ACTION: Final rule; correction.

SUMMARY: The U.S. Small Business Administration (SBA) is correcting a final rule that appeared in the Federal Register of December 20, 2004 (69 FR 75820). Among other things, the document issued a list of factors to consider in evaluating a prime contractor's performance and good faith efforts to achieve the requirements in its subcontracting plan and authorized the use of goals in subcontracting plans, and/or past performance in meeting such goals, as a factor in source selection when placing orders against Federal Supply Schedules, government-wide acquisition contracts, and multi-agency contracts. This document incorrectly stated that the final rule was effective on December 20, 2004. The document did not put the public on notice that the final rule had been designated as a major rule under the Congressional Review Act.

DATES: Effective January 10, 2005, the effective date of the final rule published on December 20, 2004 (69 FR 75820) is corrected to February 18, 2005.

FOR FURTHER INFORMATION CONTACT: Dean Koppel, Assistant Administrator, Office of Policy and Research, (202) 401-8150 or dean.koppel@sba.gov.

SUPPLEMENTARY INFORMATION: In 69 FR appearing on page 75820 in the Federal Register of Monday, December 20, 2004, the following corrections are made:

1. On page 75820, in the second column, the DATES section, “DATES: This rule is effective on December 20, 2004” is corrected to read “DATES: This rule is effective on February 18, 2005.”

2. On page 75824, in the first column, the second paragraph in the “Compliance with Executive Orders 13132, 12988 and 12866, the Regulatory Flexibility Act (5 U.S.C. 601-612), and the Paperwork Reduction Act (44 U.S.C. Ch. 35)” section, “The Office of Management and Budget (OMB) has determined that this rule constitutes a significant regulatory action under Executive Order 12866. The rule revises the SBA regulation governing small business contracting assistance to define good faith effort” is corrected to read “The Office of Management and Budget (OMB) has determined that this rule constitutes an economically significant regulatory action under Executive Order 12866. OMB's determination is based on the expectation that this rule will expand the number of subcontracting awards currently received by small businesses pursuant to Federal prime contracts, which were worth $34.4 billion in FY 2002. In addition, this rule has been designated as a major rule under the Congressional Review Act because even a marginal increase in the number of subcontract awards received by small businesses pursuant to Federal prime contracts as a result of this rule will exceed the $100 million threshold for major rules.”

Dated: January 4, 2005.
Allegra F. McCullough,
Associate Deputy Administrator for Government Contracting and Business Development.

[FR Doc. 05-414 Filed 1-7-05; 8:45 am]

BILLING CODE 8025-01-P